DEPARTMENT OF HOUSING AND URBAN DEVELOPMENT

[Docket No. FR-7011-N-40]

30-Day Notice of Proposed Information Collection: Application for Community Compass TA and Capacity Building Program NOFA and Awardee Reporting (OMB 2506-0197)

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: November 22, 2019.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 23, 2019.

A. Overview of Information Collection

Title of Information Collection: Application for Community Compass TA and Capacity Building Program NOFA and Awardee Reporting.

OMB Approval Number: 2506-0197.

Type of Request: Reinstatement of currently approved collection.

Form Number: SF-424, SF424CB, SF-424CBW, SF-425, SF-LLL, HUD-2880, HUD-50070, HUD-XXXX, HUD-XXXX, HUD-XXXX, HUD-XXXX, HUD-XXXX, HUD-XXXX, and Grants.gov Lobbying Form Certification.

Description of the need for the information and proposed use: Application information is needed to determine competition winners, i.e., the technical assistance providers best able to develop efficient and effective programs and projects that increase the supply of affordable housing units, prevent and reduce homelessness, improve data collection and reporting, and use coordinated neighborhood and community development strategies to revitalize and strengthen their communities. Additional information is needed during the life of the award from the competition winner, i.e., the technical assistance providers to fulfill the administrative requirements of the award.

Information collection | Number of respondents | Frequency of response | Responses per NOFA | Burden hour per response | Total NOFA burden hours | Hourly cost per response ** | Total cost
Pre-Award
Application | 60.00 | 1.00 | 60.00 | 100.00 | 6,000.00 | 60.74 | 364,440.00
Pre-Award
HUD-424 | 60.00 | 1.00 | 60.00 | 1.00 | 60.00 | 60.74 | 3,644.40
Grants.gov Lobbying Form Certification | 60.00 | 1.00 | 60.00 | 0.17 | 10.20 | 60.74 | 619.55
HUD-2880 | 60.00 | 1.00 | 60.00 | 2.00 | 120.00 | 60.74 | 7,288.80
HUD-50070 | 60.00 | 1.00 | 60.00 | 0.17 | 10.20 | 60.74 | 619.55
HUD-XXXX (Application Summary) | 60.00 | 1.00 | 60.00 | 0.50 | 30.00 | 60.74 | 1,822.20
HUD-XXXX (Experience of Staff, Contractors, and Consultants | 60.00 | 1.00 | 60.00 | 8.00 | 480.00 | 60.74 | 29,155.20
HUD-XXXX (Capacity and Interest | 60.00 | 1.00 | 60.00 | 0.50 | 30.00 | 60.74 | 1,822.20
SF-LLL Disclosure of Lobbying Activities * |  |  |  |  |  |  |
Post-Award

Information collection | Number of respondents | Frequency of response | Responses per annum | Burden hour per response | Annual burden hours | Hourly cost per response | Annual cost
SF-424—Key Contacts |  |  |  |  |  |  |
SF-425 Federal Financial Report (SF-425) OMB #: 4040-0014* |  |  |  |  |  |  |
HUD-XXXX Community Compass—Work Plan—Administration | 30.00 | 1.00 | 30.00 | 1.00 | 30.00 | $60.74 | $1,822.20
HUD-XXXX Community Compass—Work Plan—Coordination | 30.00 | 1.00 | 30.00 | 1.00 | 30.00 | 60.74 | 1,822.20
Community Compass—all other work plans | 30.00 | 10.00 | 300.00 | 16.00 | 4,800.00 | 60.74 | 291,552.00
HUD-XXXX (Community Compass—Monthly Report) | 30.00 | 12.00 | 360.00 | 30.00 | 10,800 | 60.74 | 655,992.00
HUD-XXXX (Community Compass—Property Statement) | 30.00 | 1.00 | 30.00 | 0.50 | 15.00 | 60.74 | 911.10
HUD-XXXX (Community Compass—Closeout of Award Certification) | 30 .00 | 1.00 | 30.00 | 0.50 | 15.00 | 60.74 | 911.10
HUD-XXXX (Community Compass—High Wage Rate Worksheet) | 30.00 | 1.00 | 30.00 | 8.00 | 240.00 | 60.74 | 14,577.60
Total |  |  |  |  | 22,670.40 | 60.74 | 1,377,000.10
* Per OMB, Standard Form should be listed, but the burden does not need to be included as part of the collection.
** Estimated cost for respondents is calculated from the June 2018 Department of Labor Bureau of Labor Statistics report on Employer Costs for Employee Compensation determined that the hourly rate of management, professional and related wages and salaries averaged $41.71 per hour plus $19.03 per hour for fringe benefits for a total $60.74 per hour.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: October 17, 2019.
Anna P. Guido,
Department Reports Management Officer, Office of the Chief Information Officer.

[FR Doc. 2019-23102 Filed 10-22-19; 8:45 am]

BILLING CODE 4210-67-P